ENVIRONMENTAL PROTECTION AGENCY

[FRL-9968-08-OLEM]

Access to Confidential Business Information by Eastern Research Group (ERG)

AGENCY: Environmental Protection Agency (EPA).

ACTION: Notice of access to data and request for comments.

SUMMARY: EPA will authorize its contractor, Eastern Research Group (ERG) to access Confidential Business Information (CBI) which has been submitted to EPA under the authority of all sections of the Resource Conservation and Recovery Act (RCRA) of 1976, as amended. EPA has issued regulations that outline business confidentiality provisions for the Agency and require all EPA Offices that receive information designated by the submitter as CBI to abide by these provisions.

DATES: Access to confidential data submitted to EPA will occur no sooner than October 6, 2017.

FOR FURTHER INFORMATION CONTACT: LaShan Haynes, Document Control Officer, Office of Resource Conservation and Recovery, (5305P), U.S. Environmental Protection Agency, 1200 Pennsylvania Avenue NW., Washington, DC 20460, 703-605-0516.

SUPPLEMENTARY INFORMATION:

1. Access to Confidential Business Information

Under EPA Contract EP-W-10-055, entitled “Advancing SMM: Waste Facts and Figures and Related Tasks,” the Eastern Research Group (ERG) will assist the Office of Resource Conservation and Recovery, Resource Conservation and Sustainability Division in collecting and analyzing municipal solid waste (MSW) information. The contract addresses MSW and other waste such as construction and demolition debris, however, the confidential business information (CBI) only relates to the MSW information collected and analyzed in the contract. The contract period is from August 2017-February 28, 2018. Some of the data collected from industry are claimed by industry to contain trade secrets or CBI. In accordance with the provisions of 40 CFR part 2, subpart B, ORCR has established policies and procedures for handling information collected from industry, under the authority of RCRA, including RCRA Confidential Business Information Security Manuals.

Eastern Research Group (ERG), shall protect from unauthorized disclosure all information designated as confidential and shall abide by all RCRA CBI requirements, including procedures outlined in the RCRA CBI Security Manual.

The U.S. Environmental Protection Agency has issued regulations (40 CFR part 2, subpart B) that outline business confidentiality provisions for the Agency and require all EPA Offices that receive information designated by the submitter as CBI to abide by these provisions. Eastern Research Group (ERG) will be authorized to have access to RCRA CBI under the EPA “Contractor Requirements for the Control and Security of RCRA Confidential Business Information Security Manual.”

EPA is issuing this notice to inform all submitters of information under all sections of RCRA that EPA will provide Eastern Research Group access to the CBI records located in the RCRA Confidential Business Information Center. Access to RCRA CBI under this contract will take place at Eastern Research Group and EPA Headquarters only. Contractor personnel will be required to sign non-disclosure agreements and will be briefed on appropriate security procedures before they are permitted access to confidential information.

Dated: September 8, 2017.
Barnes Johnson,
Director, Office of Resource Conservation & Recovery.

[FR Doc. 2017-20594 Filed 9-25-17; 8:45 am]

BILLING CODE 6560-50-P